DEPARTMENT OF COMMERCE

International Trade Administration

[A-570-933]

Frontseating Service Valves From the People's Republic of China; Final Results of Antidumping Duty Administrative Review; 2013-2014

AGENCY: Enforcement and Compliance, International Trade Administration, Department of Commerce.

SUMMARY: On April 8, 2015, the Department of Commerce (“the Department”) published the preliminary results of the administrative review of the antidumping duty on frontseating service valves from the People's Republic of China (“PRC”).¹ The period of review is April 1, 2013, through April 28, 2014. The review covers one exporter of the subject merchandise, Zhejiang Sanhua Co., Ltd. (“Sanhua”). We find that Sanhua made no sales in the United States at prices below normal value. None of the interested parties submitted case or rebuttal briefs. Therefore, we made no changes to our margin calculations for Sanhua. The final weighted-average dumping margin for this review is listed below in the section entitled “Final Results of the Review.”

¹ See Frontseating Service Valves from the People's Republic of China: Preliminary Results of Antidumping Duty Administrative Review; 2013-2014, 80 FR 18811 (April 8, 2015) (“Preliminary Results”).

DATES: Effective date: July 24, 2015.

FOR FURTHER INFORMATION CONTACT: Laurel LaCivita, AD/CVD Operations, Office III, Enforcement and Compliance, U.S. Department of Commerce, 14th Street and Constitution Avenue NW., Washington, DC 20230; telephone: (202) 482-4243.

Background

On April 8, 2015, the Department published the preliminary results of the subject administrative review of the order.² At that time, we invited interested parties to comment on our preliminary results.

² Id.

Subsequent to the Preliminary Results, Sanhua placed comments on the record concerning the Preliminary Results ³ in lieu of a case brief. No other party provided comments on our Preliminary Results.

³ See letter from Sanhua, “Frontseating Service Valves from the People's Republic of China; A-570-933; Comments by Zhejiang Sanhua Co., Ltd. Regarding the Preliminary Results,” dated May 8, 2015 (“Sanhua's Comment Letter”).

Scope of the Order

The merchandise covered by this order is frontseating service valves, assembled or unassembled, complete or incomplete, and certain parts thereof. Frontseating service valves contain a sealing surface on the front side of the valve stem that allows the indoor unit or outdoor unit to be isolated from the refrigerant stream when the air conditioning or refrigeration unit is being serviced. Frontseating service valves rely on an elastomer seal when the stem cap is removed for servicing and the stem cap metal to metal seat to create this seal to the atmosphere during normal operation.

For purposes of the scope, the term “unassembled” frontseating service valve means a brazed subassembly requiring any one or more of the following processes: The insertion of a valve core pin, the insertion of a valve stem and/or O ring, the application or installation of a stem cap, charge port cap or tube dust cap. The term “complete” frontseating service valve means a product sold ready for installation into an air conditioning or refrigeration unit. The term “incomplete” frontseating service valve means a product that when sold is in multiple pieces, sections, subassemblies or components and is incapable of being installed into an air conditioning or refrigeration unit as a single, unified valve without further assembly.

The major parts or components of frontseating service valves intended to be covered by the scope under the term “certain parts thereof” are any brazed subassembly consisting of any two or more of the following components: A valve body, field connection tube, factory connection tube or valve charge port. The valve body is a rectangular block, or brass forging, machined to be hollow in the interior, with a generally square shaped seat (bottom of body). The field connection tube and factory connection tube consist of copper or other metallic tubing, cut to length, shaped and brazed to the valve body in order to create two ports, the factory connection tube and the field connection tube, each on opposite sides of the valve assembly body. The valve charge port is a service port via which a hose connection can be used to charge or evacuate the refrigerant medium or to monitor the system pressure for diagnostic purposes.

The scope includes frontseating service valves of any size, configuration, material composition or connection type. Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this proceeding is dispositive.

Analysis of Comments Received

Sanhua noted that the draft liquidation instructions issued subsequent to the Preliminary Results incorrectly identified the importer of record,⁴ and requested that the Department correct its liquidation instructions accordingly.⁵ We agree, and we will revise the final liquidation instructions to include the correct importer name.

⁴ Id., at 2.

⁵ Id., at 5.

Final Results of the Review

We determine that the following weighted-average dumping margin exists for the period April 1, 2013, through April 28, 2014:

Exporter | Weighted- average margin (percent)
Zhejiang Sanhua Co., Ltd. | 0.00

Assessment Rates

The Department shall determine, and U.S. Customs and Border Protection (“CBP”) shall assess, antidumping duties on all appropriate entries covered by this review pursuant to section 751(a)(2)(C) of the Act and 19 CFR 351.212(b).⁶ The final results of this review shall be the basis for the assessment of antidumping duties on entries of merchandise covered by the final results of this review. The Department intends to issue assessment instructions to CBP 15 days after the date of publication of these final results of review.

⁶ See Antidumping Proceeding: Calculation of the Weighted-Average Dumping Margin and Assessment Rate in Certain Antidumping Duty Proceedings; Final Modification, 77 FR 8103 (February 14, 2012).

We will instruct CBP to assess antidumping duties on all appropriate entries covered by this review for each individual assessment rate calculated in the final results of this review that is above de minimis (i.e., at or above 0.50 percent). Pursuant to 19 CFR 351.106(c)(2), we will instruct CBP to liquidate without regard to antidumping duties any entries for which the assessment rate is de minimis (i.e., less than 0.50 percent).

Consistent with its assessment practice in non-market economy (“NME”) antidumping cases,⁷ for entries that were not reported in the U.S. sales databases submitted by companies individually examined during this review, the Department will instruct CBP to liquidate such entries at the NME-wide rate. In addition, if the Department determines that an exporter under review had no shipments of subject merchandise, any suspended entries that entered under that exporter's case number (i.e., at that exporter's rate) will be liquidated at the NME-wide rate. For a full discussion of this practice, see NME Antidumping Proceedings.

⁷ See Non-Market Economy Antidumping Proceedings: Assessment of Antidumping Duties, 76 FR 65694, 65694-95 (October 24, 2011) (“NME Antidumping Proceedings”).

Cash Deposit Requirements

Because the antidumping duty order on frontseating service valves from the PRC has been revoked,⁸ the Department will not issue cash deposit instructions at the conclusion of this administrative review.

⁸ See Frontseating Service Valves from the People's Republic of China: Final Results of Sunset Review and Revocation of Antidumping Duty Order, 79 FR 27573 (May 14, 2014).

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

In accordance with 19 CFR 351.305(a)(3), this notice serves as a reminder to parties subject to administrative protective order (“APO”) of their responsibility concerning the disposition of proprietary information disclosed under the APO. Timely written notification of the return or destruction of APO materials, or conversion to judicial protective order, is hereby requested. Failure to comply with the regulations and terms of an APO is a sanctionable violation.

These final results of review and notice are published in accordance with sections 751(a)(1) and 777(i)(1) of the Act.

Dated: July 14, 2015.
Paul Piquado,
Assistant Secretary for Enforcement and Compliance.

[FR Doc. 2015-17838 Filed 7-23-15; 8:45 am]

BILLING CODE 3510-DS-P